GOVERNMENT ACCOUNTABILITY OFFICE

Advisory Council on Government Auditing Standards

AGENCY: U.S. Government Accountability Office.

ACTION: Notice of teleconference meeting.

SUMMARY: This notice informs the public that the Advisory Council on Government Auditing Standards will hold a public meeting by teleconference on December 17, 2013. The public is invited to listen to the Council's discussion. Members of the public will be provided an opportunity to address the Council with a brief (five-minute) presentation following the Council's discussion. The Advisory Council's primary purpose is to provide input and recommendations to the Comptroller General for revisions to the Government Auditing Standards, to provide for timely resolution of auditing issues, and to maintain the relevance of the standards.

DATES: The meeting will be held December 17, 2013, from 3:00 p.m. to 4:00 p.m. EST. For information on how to participate, please see SUPPLEMENTARY INFORMATION below.

FOR FURTHER INFORMATION CONTACT: For information on Government Auditing Standards or the Advisory Council on Government Auditing Standards, please contact Eric Holbrook, Assistant Director, Financial Management and Assurance, telephone 202-512-5232, 441 G Street NW., Washington, DC 20548-0001.

SUPPLEMENTARY INFORMATION: This meeting will allow GAO to obtain the Advisory Council's advice as GAO determines the scope and content of interpretative guidance relating to the 2011 Revision of Government Auditing Standards. To participate, call toll free 1-888-469-1606. When prompted, enter the following passcode: 61406. Any interested person who plans to attend the meeting as an observer should contact Cecil Davis, Council Administrator, 202-512-9362. For further information or to obtain a copy of the Council meeting agenda, please contact Ms. Davis.

Authority: Pub. L. 67-13, 42 Stat. 20 (June 10, 1921).

James Dalkin,
Director, Financial Management and Assurance, U.S. Government Accountability Office.

[FR Doc. 2013-29756 Filed 12-12-13; 8:45 am]

BILLING CODE 1610-02-M